DEPARTMENT OF THE INTERIOR

Fish and Wildlife Service

[FWS-R8-ES-2011-N163; 81440-1113-0000-F3]

Proposed Safe Harbor Agreement for California Red-legged Frog, California Tiger Salamander, Smith's Blue Butterfly, and Yadon's Piperia at Palo Corona Regional Park, Monterey County, CA

AGENCY: Fish and Wildlife Service, Interior.

ACTION: Notice of availability; receipt of permit application.

SUMMARY: We, the U.S. Fish and Wildlife Service (Service), have received, from the Monterey Peninsula Regional Park District (Applicant), an application for an enhancement of survival permit for the federally threatened California red-legged frog (Rana draytonii) and California tiger salamander (Ambystoma californiense) and federally endangered Smith's blue butterfly (Euphilotes enoptes smithi) under the Endangered Species Act of 1973, as amended (Act). This permit application includes a proposed Safe Harbor Agreement (Agreement) between the Applicant and the Service. The Agreement and permit application are available for public comment.

DATES: To ensure we are able to consider your comments, please send them to us by OCTOBER 7, 2011.

ADDRESSES: The documents are available on our Web site: http://www.fws.gov/ventura. A limited number of printed copies are available by request. You may request documents or submit comments by any of the following methods.

• E-mail: fw8SHA_palocorona@fws.gov. Include “Palo Corona SHA” in the subject line of the message.

• U.S. Mail: Field Supervisor; U.S. Fish and Wildlife Service; Ventura Fish and Wildlife Office; 2493 Portola Road, Suite B; Ventura, CA 93003.

• Fax: Attn: Field Supervisor, (805) 644-3958.

FOR FURTHER INFORMATION CONTACT: Eric Morrissette, Safe Harbor Coordinator, Ventura Fish and Wildlife Office at the address above or by telephone at (805) 644-1766.

SUPPLEMENTARY INFORMATION:

Availability of Documents

You may obtain copies of the documents for review by using one of the methods in ADDRESSES, or by contacting the individual named in the FOR FURTHER INFORMATION CONTACT section. You also may make an appointment to view the documents at the Ventura Fish and Wildlife Office (see ADDRESSES) during normal business hours.

Background

Under a Safe Harbor Agreement, participating landowners voluntarily undertake management activities on their property to enhance, restore, or maintain habitat benefiting species listed under the Act (16 U.S.C. 1531 et seq.). Safe Harbor Agreements, and the subsequent permits that are issued under section 10(a)(1)(A) of the Act, encourage private and other non-Federal property owners to implement conservation efforts for listed species by assuring property owners that they will not be subjected to increased land use restrictions as a result of efforts to attract or increase the numbers or distribution of a listed species on their property. Application requirements and issuance criteria for permits through Safe Harbor Agreements are found in 50 CFR 17.22(c) and 50 CFR 17.32(c).

We have worked with the Applicant to develop the proposed Agreement for the conservation of the California red-legged frog, California tiger salamander, Smith's blue butterfly, and Yadon's piperia on the property subject to the Agreement (Enrolled Property), which is owned and managed by the Applicant. The Enrolled Property is Palo Corona Regional Park in Monterey County, California. Within the 4,300 acres of land within the Enrolled Property, habitat for the California red-legged frog, California tiger salamander, Smith's blue butterfly, and Yadon's piperia will be restored, enhanced, and managed under a written agreement between the Applicant and Service. We expect that the activities proposed in the Agreement will result in an increase in suitable habitat for these species and provide for their increase in number and their expansion into additional areas that are currently not occupied, thus resulting in a net conservation benefit for these species.

The Agreement provides for the restoration, enhancement, and management of habitat suitable for the California red-legged frog, California tiger salamander, Smith's blue butterfly, and Yadon's piperia on the Enrolled Property. The proposed duration of the Agreement is 30 years, and the proposed term of the enhancement of survival permit is 30 years. The Agreement fully describes the proposed management activities to be undertaken by the Applicant and the net conservation benefits expected to be gained for the California red-legged frog, California tiger salamander, Smith's blue butterfly, and Yadon's piperia.

Upon approval of the Agreement and satisfactory completion of all other applicable legal requirements, and consistent with the Service's Safe Harbor Policy published in the Federal Register on June 17, 1999 (64 FR 32717), the Service would issue a permit to the Applicant authorizing take of the California red-legged frog, California tiger salamander, and Smith's blue butterfly incidental to the implementation of the management activities specified in the Agreement; incidental to other lawful uses of the Enrolled Property, including normal, routine land management activities; and incidental to the return to pre-Agreement conditions (baseline).

Management activities included in the Agreement will provide for the restoration, enhancement, and management of native habitats within the Enrolled Property. The objective of such activities is to enhance the populations of California red-legged frogs, California tiger salamanders, Smith's blue butterflies, and Yadon's piperia by increasing the quality and quantity of suitable habitat on the Enrolled Property. Take of California red-legged frogs, California tiger salamanders, and Smith's blue butterflies incidental to the aforementioned activities is unlikely; however, it is possible that in the course of such activities or other lawful activities on the Enrolled Property, the Applicant could incidentally take California red-legged frogs, California tiger salamanders, or Smith's blue butterflies thereby necessitating take authority under the permit. Because Yadon's piperia is a federally listed plant species and the Act's take prohibitions in section 9 generally do not apply to listed plants on non-Federal properties, an incidental take permit is not needed for Yadon's piperia.

Baseline conditions have been determined for the Enrolled Property based on the occurrence of California red-legged frog, California tiger salamander, and Smith's blue butterfly and the extent of suitable habitat for the respective species as provided in the Agreement. Baseline conditions were determined for Yadon's piperia for conservation and recovery purposes. The Applicant must maintain baseline conditions on the Enrolled Property in order to receive coverage regarding incidental take of California red-legged frogs, California tiger salamanders, and Smith's blue butterflies. The Agreement and requested permit would allow the Applicant to return to baseline conditions after the end of the term of the Agreement and prior to the expiration of the 30-year permit, if so desired by the Applicant.

Public Review and Comments

The Service has made a preliminary determination that the proposed Agreement and permit application are eligible for categorical exclusion under the National Environmental Policy Act of 1969 (NEPA) (42 U.S.C. 4321 et seq.). We explain the basis for this determination in an Environmental Action Statement, which also is available for public review.

Individuals wishing copies of the permit application, copies of our draft Environmental Action Statement, and copies of the Agreement, including a map of the proposed permit area, should contact the Ventura Fish and Wildlife Office (see ADDRESSES).

If you wish to comment on the permit application or the Agreement, you may submit your comments to one of the addresses listed in the ADDRESSES section of this document. Comments and materials received, including names and addresses of respondents, will be available for public review, by appointment, during normal business hours at the address in the ADDRESSES section above and will become part of the public record, under section 10(c) of the Act.

Before including your address, phone number, e-mail address, or other personal identifying information in your comment, you should be aware that your entire comment—including your personal identifying information—may be made publicly available at any time. While you can ask us in your comment to withhold your personal identifying information from public review, we cannot guarantee that we will be able to do so.

We will evaluate this permit application, associated documents, and comments we receive to determine whether the permit application meets the requirements of section 10(a) of the Act and NEPA regulations. If we determine that the requirements are met, we will sign the proposed Agreement and issue an enhancement of survival permit under section 10(a)(1)(A) of the Act to the Applicant for take of the California red-legged frog, California tiger salamander, and Smith's blue butterfly incidental to otherwise lawful activities in accordance with the terms of the Agreement. We will not make our final decision until after the end of the 30-day comment period and will fully consider all comments we receive during the comment period.

The Service provides this notice under section 10(c) of the Act and under implementing regulations for NEPA (40 CFR 1506.6).

Diane K. Noda,
Field Supervisor, Ventura Fish and Wildlife Office.

[FR Doc. 2011-22793 Filed 9-6-11; 8:45 am]

BILLING CODE 4310-55-P